AGENCY FOR INTERNATIONAL DEVELOPMENT

Agency Information Collection Activities: Submission to the Office of Management and Budget (OMB) for Review and Approval; Comment Request

AGENCY: U.S. Agency for International Development.

ACTION: Notice of information collection.

SUMMARY: The U.S. Agency for International Development (USAID), as part of its continuing effort to reduce paperwork and respondent burden, invites the general public and other Federal agencies to take this opportunity to comment on continuing information collections, as required by the Paperwork Reduction Act of 1995, Public Law 104-13. Comments are requested concerning whether the proposed or continuing collections of information are necessary for the proper performance of the functions of the agency, including whether the information shall have practical utility; the accuracy of the burden estimates; ways to enhance the quality, utility, and clarity of the information collected; and ways to minimize the burden of the collection of the information on the respondents, including the use of automated collection techniques or other forms of information technology.

DATES: All comments should be submitted within 60 calendar days from the date of this publication.

ADDRESSES: Interested persons are invited to submit written comments regarding the proposed information collection to the Office of Information and Regulatory Affairs, Office of Management and Budget (OMB), 725 7th Street NW, Washington, DC 20543. Attention: Desk Officer for USAID.

FOR FURTHER INFORMATION CONTACT: U.S. Agency for International Development, Office of Human Capital and Talent Management, Office of Workforce Planning, Policy, and Systems Management (PPSM)—Washington, DC 20523; tel. 202-712-1234, option #2.

SUPPLEMENTARY INFORMATION:

I. Abstract

The purpose of this collection is to determine if a candidate is eligible to receive Physician and Dentist Pay under the provisions of Title 38. This information will be maintained by USAID and made available to the Internal Revenue Service for tax and withholding purposes and to the U.S. Office of Personnel Management. Disclosure is voluntary. However, without the requested information, USAID will not be able to process a candidate's request to receive Physician and Dentist Pay. Authority to collect this information is contained in 5 U.S.C. 1104 and 5 U.S.C. 5371. The Office of U.S. Office of Personnel Management delegated authority to USAID to use provisions of Title 38, U.S.C. until June 30, 2022.

II. Method of Collection

Paper.

III. Data

(a) Full Name

(b) Organization

(c) Position

(d) Position Description Number (Federal candidates only)

(e) Additional Comments (as necessary)

(f) Current Occupation

(g) Pay Information

a. Federal Candidate: Pay Plan, Step, Tier, Title, Clinical Specialty/Board Certification, General Schedule Employee Current Pay

b. Non-Federal Candidate: Clinical Specialty/Board Certifications, Total Annual Compensation

(h) Official Tour of Duty (Full Time or Part Time)

IV. Format

(a) Form Title: Request for Title 38 Physician and Dentist Pay

(b) Form Number: AID Form 465-1

(c) Type of Review: Initial

(d) Affected Public: Individuals

(e) Estimated Number of Respondents: 200

(f) Estimated Total Annual Burden Hours: 100-200

V. Request for Comments

Comments are invited on: (a) Whether the proposed collection of information is necessary for the proper performance of the functions of USAID, including whether the information collected has practical utility; (b) the accuracy of USAID's estimate of the burden (including both hours and cost) of the proposed collection of information; (c) ways to enhance the quality, utility, and clarity of the information to be collected; and (d) ways to minimize the burden of the collection of information on respondents, including automated collection techniques or the use of other forms of information technology.

Comments submitted in response to this notice will be summarized and included in the request for OMB approval of this information collection. The comments will also become a matter of public record.

Dated: March 11, 2021.
Alexandra Riboul,
Deputy Director, Office of Human Capital and Talent Management (HCTM), Office of Workforce Planning, Policy, and Systems Management (PPSM).

[FR Doc. 2021-05943 Filed 3-22-21; 8:45 am]

BILLING CODE P